ENVIRONMENTAL PROTECTION AGENCY

[FRL-9630-2; EPA-HQ-ORD-2011-0390]

Draft Toxicological Review of 1,4-Dioxane: In Support of Summary Information on the Integrated Risk Information System (IRIS)

AGENCY: Environmental Protection Agency .

ACTION: Notice of Peer Review Meeting.

SUMMARY: EPA is announcing that Versar, Inc., an EPA contractor for external scientific peer review, will convene an independent panel of experts and organize and conduct an external peer review meeting to review the draft human health assessment titled, “Toxicological Review of 1,4-Dioxane: In Support of Summary Information on the Integrated Risk Information System (IRIS)” [EPA/635/R-11/003]. The draft assessment was prepared by the National Center for Environmental Assessment (NCEA) within the EPA Office of Research and Development. EPA is releasing this draft assessment for the purposes of public comment and peer review. This draft assessment is not final as described in EPA's information quality guidelines, and it does not represent and should not be construed to represent Agency policy or views.

Versar, Inc. invites the public to register to attend this meeting as observers. In addition, Versar, Inc. invites the public to give brief oral comments and/or provide written comments at the meeting regarding the draft assessment under review. Space is limited, and reservations will be accepted on a first-come, first-served basis. In preparing a final report, EPA will consider Versar, Inc.'s report of the comments and recommendations from the external peer review meeting and any written public comments that EPA receives in accordance with the announcements of the public comment period for the 1,4-dioxane assessment in Federal Register Notices published August 31, 2011, (76 FR 54225) and September 16, 2011 (76 FR 57739).

DATES: The peer review panel meeting on the draft assessment for 1,4-dioxane will be held on March 19, 2012, beginning at 9 a.m. and ending at 5 p.m. Eastern Time.

ADDRESSES: The draft “Toxicological Review of 1,4-Dioxane: In Support of Summary Information on the Integrated Risk Information System (IRIS)” is available primarily via the Internet on the NCEA home page under the Recent Additions and Publications menus at http://www.epa.gov/ncea. A limited number of paper copies are available from the Information Management Team (Address: Information Management Team, National Center for Environmental Assessment [Mail Code: 8601P], U.S. Environmental Protection Agency, 1200 Pennsylvania Avenue NW., Washington, DC 20460; telephone: 703-347-8561; facsimile: 703-347-8691). If you request a paper copy, please provide your name, mailing address, and the draft assessment title.

The peer review meeting on the draft 1,4-dioxane assessment will be held at Hyatt Place, Raleigh-Durham Airport, 200 Airgate Drive, Morrisville, NC 27560. To attend the meeting, register no later than March 12, 2012, by contacting Versar, Inc., by email: bcolon@versar.com (subject line: 1,4-Dioxane Peer Review Meeting), by phone: (703) 642-6727 (ask for Betzy Colon, the 1,4-Dioxane Peer Review Meeting Coordinator), or by faxing a registration request to (703) 642-6809 (please reference the 1,4-Dioxane Peer Review Meeting and include your name, title, affiliation, full address and contact information). Space is limited, and reservations will be accepted on a first-come, first-served basis. There will be limited time at the peer review meeting for comments from the public. Please inform Betzy Colon if you wish to make comments during the meeting.

Information on Services for Individuals with Disabilities: EPA welcomes public attendance at the “1,4-Dioxane Peer Review Meeting” and will make every effort to accommodate persons with disabilities. For information on access or services for individuals with disabilities, contact: Versar, Inc., at 6850 Versar Center, Springfield, VA 22151; by email: bcolon@versar.com (subject line: 1,4-Dioxane Peer Review Meeting), by phone: (703) 642-6727 (ask for Betzy Colon, the 1,4-Dioxane Peer Review Meeting Coordinator), or by faxing a registration request to (703) 642-6809 (please reference the 1,4-Dioxane Peer Review Meeting and include your name, title, affiliation, full address and contact information).

Additional Information: For information on the draft assessment, please contact Patricia Gillespie, National Center for Environmental Assessment [Mail Code: B-243-01], U.S. Environmental Protection Agency, National Center for Environmental Assessment, Office of Research and Development, Research Triangle Park, NC 27711; telephone: (919) 541-1964; facsimile: (919) 541-2985; or email: [FRN_Questions@epa.gov].

SUPPLEMENTARY INFORMATION:

I. Information About IRIS

EPA's IRIS is a human health assessment program that evaluates quantitative and qualitative risk information on effects that may result from exposure to chemical substances found in the environment. Through the IRIS Program, EPA provides the highest quality science-based human health assessments to support the Agency's regulatory activities. The IRIS database contains information for more than 550 chemical substances that can be used to support the first two steps (hazard identification and dose-response evaluation) of the risk assessment process. When supported by available data, IRIS provides oral reference doses (RfDs) and inhalation reference concentrations (RfCs) for chronic noncancer health effects and cancer assessments. Combined with specific exposure information, government and private entities use IRIS to help characterize public health risks of chemical substances in a site-specific situation and thereby support risk management decisions designed to protect public health.

Dated: January 30, 2012.
Darrell A. Winner,
Acting Director, National Center for Environmental Assessment.

[FR Doc. 2012-3296 Filed 2-10-12; 8:45 am]

BILLING CODE 6560-50-P